DEPARTMENT OF AGRICULTURE

Grain Inspection, Packers and Stockyards Administration

[05-01-C]

Opportunity To Comment on the Applicants for the Wisconsin Area

AGENCY: Grain Inspection, Packers and Stockyards Administration, USDA.

ACTION: Notice.

SUMMARY: GIPSA requests comments on the applicants for designation to provide official services in the geographic area currently assigned to the Wisconsin Department of Agriculture, Trade and Consumer Protection (Wisconsin).

DATES: Comments must be postmarked or electronically dated on or before July 1, 2005.

ADDRESSES: We invite you to submit comments on this notice by any of the following methods:

• Hand Delivery or Courier: Deliver to Janet M. Hart, Chief, Review Branch, Compliance Division, GIPSA, USDA, Room 1647-S, 1400 Independence Avenue, SW., Washington, DC 20250.

• Fax: Send by facsimile transmission to (202) 690-2755, attention: Janet M. Hart.

• E-mail: Send via electronic mail to Janet.M.Hart@usda.gov.

• Mail: Send hardcopy to Janet M. Hart, Chief, Review Branch, Compliance Division, GIPSA, USDA, STOP 3604, 1400 Independence Avenue, SW., Washington, DC 20250-3604.

Read Comments: All comments will be available for public inspection at the office above during regular business hours (7 CFR 1.27(b)).

FOR FURTHER INFORMATION CONTACT: Janet M. Hart at 202-720-8525, e-mail Janet.M.Hart@usda.gov.

SUPPLEMENTARY INFORMATION: This Action has been reviewed and determined not to be a rule or regulation as defined in Executive Order 12866 and Departmental Regulation 1512-1; therefore, the Executive Order and Departmental Regulation do not apply to this action.

In the March 1, 2005, Federal Register (70 FR 9911), GIPSA asked persons interested in providing official services in the Wisconsin areas to submit an application for designation.

There were two applicants for the Wisconsin area: Wisconsin and Eastern Iowa Grain Inspection and Weighing Service, Inc. (Eastern Iowa), a currently designated official agency. Wisconsin applied for designation to provide official services in the entire area currently assigned to them. Eastern Iowa applied for all or part of Wisconsin. GIPSA is publishing this notice to provide interested persons the opportunity to present comments concerning the applicants. Commenters are encouraged to submit reasons and pertinent data for support or objection to the designation of the applicants. All comments must be submitted to the Compliance Division at the above address. Comments and other available information will be considered in making a final decision. GIPSA will publish notice of the final decision in the Federal Register, and GIPSA will send the applicants written notification of the decision.

Authority: Pub. L. 94-582, 90 Stat. 2867, as amended (7 U.S.C. 71 et seq.).

David. R Shipman,
Acting Administrator, Grain Inspection, Packers and Stockyards Administration.

[FR Doc. 05-10740 Filed 5-31-05; 8:45 am]

BILLING CODE 3410-EN-P